DEPARTMENT OF HOMELAND SECURITY

Transportation Security Administration

Reports, Forms, and Record Keeping Requirements: Agency Information Collection Activity Under OMB Review; TSA Customer Comment Card

AGENCY: Transportation Security Administration (TSA), DHS.

ACTION: Notice of emergency clearance request.

SUMMARY: The U.S. Department of Homeland Security, Transportation Security Administration, has submitted a request for emergency processing of a new public information collection to the Office of Management and Budget (OMB) for review and clearance under the Paperwork Reduction Act of 1995 (Pub. L. 104-13, 44 U.S.C. 35). This notice announces that the Information Collection Request (ICR) abstracted below has been forwarded to OMB for review and comment. The ICR describes the nature of the information collection and its expected burden.

DATES: Send your comments by March 14, 2005. A comment to OMB is most effective if OMB receives it within 30 days of publication.

ADDRESSES: Comments may be faxed to the Office of Information and Regulatory Affairs, Office of Management and Budget, Attention: DHS-TSA Desk Officer, at (202) 395-5806.

FOR FURTHER INFORMATION CONTACT: Katrina Wawer, Information Collection Specialist, Office of Transportation Security Policy, TSA-9, Transportation Security Administration, 601 South 12th Street, Arlington, VA 22202-4220; telephone (571) 227-1995; facsimile (571) 227-2594.

SUPPLEMENTARY INFORMATION:

Transportation Security Administration (TSA)

Title: Customer Comment Card.

Type of Request: Emergency processing request of new collection.

OMB Control Number: Not yet assigned.

Forms(s): TSA Customer Comment Card.

Affected Public: Airport passengers.

Abstract: This collection establishes a voluntary program for airport passengers to provide feedback to the TSA regarding their experiences with TSA security procedures. The collection of information allows the TSA to determine customer concerns about security procedures and policies. TSA intends to make available to airports a Customer Comment Card, which will collect feedback and, if the passenger desires, contact information so that TSA staff can respond to the passenger's comment. For passengers who deposit their cards in the designated drop-boxes, TSA airport staff will collect the cards, categorize comments, enter the results into an online system for reporting, and respond to passengers as necessary. Passengers also have the option to mail the cards directly to TSA. TSA also will continue to provide the TSA Contact Center for passengers to make comments independently of airport involvement. The TSA is requesting emergency clearance so that it can immediately collect and respond in a timely manner to comprehensive feedback, which serves as critical input when the TSA must modify its screening procedures.

Number of Respondents: 1,783,800.

Estimated Annual Burden Hours: An estimated 150,880 hours.

TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including through the use of appropriate automated, electronic, mechanical, or other technological collection techniques or other forms of information technology.

Issued in Arlington, Virginia, on February 7, 2005.
Lisa S. Dean,
Privacy Officer.

[FR Doc. 05-2631 Filed 2-9-05; 8:45 am]

BILLING CODE 4910-62-P